DEPARTMENT OF HEALTH AND HUMAN SERVICES

Centers for Disease Control and Prevention

Advisory Committee on Childhood Lead Poisoning Prevention

In accordance with section 10(a)(2) of the Federal Advisory Committee Act (Pub. L. 92-463), the Centers for Disease Control and Prevention (CDC) announces the following meeting of the aforementioned committee:

Times and Dates

9:00 a.m.-4:00 p.m., November 14, 2012

8:45 a.m.-4:30 p.m., November 15, 2012

9:15 a.m.-12:00 p.m., November 16, 2012

Place: CDC, Chamblee Campus, Building 106, 1st Floor, Conference Rooms 1A/B, 4770 Buford Highway, NE., Atlanta, Georgia 30341.

Status

This meeting is open to the public, limited only by the space available. The meeting room accommodates approximately 75 people. Opportunities will be provided during the meeting for oral comments.

Purpose

The Committee provides advice and guidance to the Secretary; the Assistant Secretary for Health; and the Director, CDC, regarding new scientific knowledge and technological developments and their practical implications for childhood lead poisoning prevention efforts. The committee also reviews and reports regularly on childhood lead poisoning prevention practices and recommends improvements in national childhood lead poisoning prevention efforts.

Matters To Be Discussed

Agenda items will include the following: Childhood Lead Poisoning Prevention Update—Status of our 35 Programs; evaluation of services for children in Chicago; scientific program presentation costs and benefits of smoke free policies in public housing; Laboratory Workgroup updates; Educational Intervention Workgroup presentation; Agency updates and Response to ACCLPP Recommendations; Federal agency updates; HUD Guidelines (Second Edition); Lead-based paint/hazards standard review; Spot Test Kit update and international work.

Agenda items are subject to change as priorities dictate.

Supplemental Information: The public comment period is scheduled on Wednesday, November 14, 2012, from 3:45 p.m.-4:00 p.m.; on Thursday, November 15, 2012, from 4:15 p.m.-4:30 p.m.; and on Friday, November 16, 2012, from 11:45 a.m.-12:00 p.m.

Contact Person for More Information

Sandra Malcom, Committee Management Specialist, NCEH/ATSDR, CDC, 4770 Buford Highway, Mail Stop F-61, Chamblee, Georgia 30345, Telephone: (770) 488-0575, Fax: (770) 488-3377, Email: smalcom@cdc.gov. The deadline for notification of attendance is November 9, 2012.

The Director, Management Analysis and Services Office, has been delegated the authority to sign Federal Register notices pertaining to announcements of meetings and other committee management activities, for both the Centers for Disease Control and Prevention and the Agency for Toxic Substances and Disease Registry.

Dated: October 17, 2012.
Elaine L. Baker,
Director, Management Analysis and Services Office, Centers for Disease Control and Prevention.

[FR Doc. 2012-26274 Filed 10-23-12; 8:45 am]

BILLING CODE 4163-18-P